DEPARTMENT OF TRANSPORTATION

Federal Highway Administration

Notice of Intent; Environmental Impact Statement: I-285 Top End Express Lanes in Cobb, Fulton, and DeKalb Counties, Georgia

AGENCY: Federal Highway Administration, DOT.

ACTION: Notice of intent to prepare an Environmental Impact Statement (EIS).

SUMMARY: The FHWA is issuing this notice to advise the public that an Environmental Impact Statement (EIS) will be prepared for a proposed project on I-285 in Cobb, Fulton, and DeKalb counties, Georgia. The Georgia Department of Transportation (GDOT) is sponsoring the project to address the substantial congestion in this corridor that results in unreliable travel times and diminished accessibility to employment and activity centers.

FOR FURTHER INFORMATION CONTACT:

Moises Marrero, Division Administrator, Federal Highway Administration, 61 Forsyth Street, Suite 17T100, Atlanta, Georgia 30303, Telephone: (404) 562-3630; email: Moises.Marrero@dot.gov.

Tim Matthews, GDOT Project Manager, Georgia Department of Transportation, One Georgia Center, 600 West Peachtree Street NW, 25th Floor, Atlanta, Georgia 30308. Telephone: (404) 631-1713; email: tmatthews@dot.ga.gov.

SUPPLEMENTARY INFORMATION: The FHWA, in cooperation with the Georgia Department of Transportation (GDOT), will prepare an EIS for proposed express lanes across the top end of I-285 roughly between the I-75 and I-85 corridors. The FHWA intends to issue a combined Final EIS/ROD document pursuant to 23 CFR 771.124, unless FHWA determines the regulatory criteria or practicability considerations preclude issuance of a combined document.

The proposed I-285 Top End Express Lanes project is being developed to improve mobility and offer predictable travel times along the I-285 corridor and is a product of studies and recommendations included in the Atlanta Region Managed Lanes Systems Plan and Managed Lanes Implementation Plan. The total project length would be approximately 28 miles. An evaluation under Section 4(f) of the DOT Act of 1966 may also be required due to the potential for impacts to public recreational areas and resources eligible for the National Register of Historic Places.

A study corridor large enough to incorporate detailed studies for the full range of alternatives to be considered for the project will be evaluated. The EIS will be prepared in accordance with the National Environmental Policy Act (NEPA) of 1969, as amended (42 U.S.C. 4321 et seq.), 23 U.S.C. 139, Council on Environmental Quality (CEQ) regulations implementing NEPA (40 CFR 1500-1508), FHWA regulations implementing NEPA (23 CFR 771.101-771.139) and other applicable Federal, State, and local governmental laws and regulations. In addition, the EIS will fulfill the applicable provisions of the Safe Accountable Flexible Efficient Transportation Equity Act: A Legacy for Users (SAFETEA-LU); Moving Ahead for Progress in the 21st Century (MAP-21); and Fixing America's Surface Transportation (FAST) Act.

Ongoing and continuing agency coordination is outlined in the project Agency Coordination Plan (ACP). Additional information, including the project Need and Purpose, the ACP, and the Public Involvement Plan can be found on the project website at https://majormobilityga.com/projects/topend/. These documents are available for public and agency review and comment. This website also includes project schedules and information about past and upcoming meetings.

Public involvement is also a critical component of NEPA project development. To ensure that the full range of issues related to this proposed action are addressed and all significant issues identified, public outreach and involvement will continue through project development. Comments and suggestions are invited from all interested parties. A public hearing will be held after the completion of the Draft EIS, and the EIS will be made available for review by federal and state resource agencies and the public.

(Catalog of Federal Domestic Assistance Program Number 20.205, Highway Planning and Construction. The regulations implementing Executive Order 12372 regarding intergovernmental consultation on Federal programs and activities apply to this program.)

Authority: 23 U.S.C. 315; 49 CFR 1.48.

Issued on: October 29, 2019.
Moises Marrero,
Georgia Division Administrator, Federal Highway Administration.

[FR Doc. 2019-24032 Filed 11-1-19; 8:45 am]

BILLING CODE 4910-RY-P